FEDERAL COMMUNICATIONS COMMISSION

47 CFR Part 80

[WT Docket No. 00-48; FCC 06-129]

Maritime Communications

AGENCY: Federal Communications Commission.

ACTION: Notice of proposed rulemaking.

SUMMARY: In this document, the Federal Communications Commission (Commission or FCC) furthers its ongoing efforts to ensure that its rules governing the Maritime Radio Services continue to promote maritime safety, maximize effective and efficient use of the spectrum available for maritime communications, accommodate technological innovation, avoid unnecessary regulatory burdens, and maintain consistency with international maritime standards to the extent consistent with the United States public interest. The Commission also seeks in this proceeding to ensure that it regulates the Maritime Radio Services in a manner that advances our Nation's homeland security.

DATES: Submit comments on or before January 8, 2007, and reply comments are due on or before February 6, 2007.

ADDRESSES: You may submit comments, identified by WT Docket No. 00-48; FCC 06-129, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Jeffrey Tobias, Jeff.Tobias@FCC.gov, Wireless Telecommunications Bureau, (202) 418-1617, or TTY (202) 418-7233.

SUPPLEMENTARY INFORMATION: This is a summary of the Commission's Third Further Notice of Proposed Rule Making (Third FNPRM) in WT Docket No. 00-48, FCC 06-129, adopted on August 29, 2006, and released on September 8, 2006. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. The WT Docket No. 00-48 rulemaking proceeding was established to develop rules for domestic implementation of the Global Maritime Distress and Safety System (GMDSS), a ship-to-shore and ship-to-ship distress communications system using satellite and digital selective calling (DSC) technology. The Commission takes the following significant actions in the Third FNPRM in WT Docket No. 00-48: (i) Proposes to cease authorizing INMARSAT-E emergency position indicating radiobeacons (EPIRBs) due to Inmarsat's planned cessation of service to such EPIRBs; (ii) requests comment on whether to require Global Positioning System (GPS) capability in VHF-DSC handheld units; (iii) requests comment on whether to require the carriage of at least one VHF handheld marine radio transceiver on all small passenger vessels that do not have a reserve power supply; (iv) requests comment on whether there is a need to make additional spectrum available for ship station facsimile communications, or to permit the transmission of data on VHF maritime voice channels; (v) requests comment on whether there is any need to continue limiting the number of frequencies that may be assigned to any particular private coast station; (vi) requests comment on updating the standards for ship radar equipment; and (vii) proposes to add a rule clarifying that GMDSS vessels subject to subpart W are required to test GMDSS radiotelephone equipment on a daily basis.

I. Procedural Matters

A. Ex Parte Rules—Permit-But-Disclose Proceeding

2. This is a permit-but-disclose notice and comment rulemaking proceeding. Ex parte presentations are permitted, except during the Sunshine Agenda period, provided they are disclosed as provided in the Commission's rules.

B. Comment Dates

3. Pursuant to §§ 1.415 and 1.419 of the Commission's rules, 47 CFR 1.415, and 1.419, interested parties may file comments on or before January 8, 2007 and reply comments on or before February 6, 2007. All filings related to this Third FNPRM should refer to WT Docket No. 00-48.

4. Comments may be filed using the Commission's Electronic Comment Filing System (ECFS), the Federal Government's eRulemaking Portal, or by filing paper copies. See Electronic Filing of Documents in Rulemaking Proceedings, 63 FR 24121, May 1, 1998.

5. Comments may be filed electronically using the Internet by accessing the ECFS: http://www.fcc.gov/cgb/ecfs/ or the Federal eRulemaking Portal: http://www.regulations.gov. Filers should follow the instructions provided on the Web site for submitting comments.

6. For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

7. Parties who choose to file by paper must file an original and four copies of each filing. If more than one docket or rulemaking number appears in the caption of this proceeding, filers must submit two additional copies for each additional docket or rulemaking number.

8. Filings can be sent by hand or messenger delivery, by commercial overnight courier, or by first-class or overnight U.S. Postal Service mail (although we continue to experience delays in receiving U.S. Postal Service mail). All filings must be addressed to the Commission's Secretary, Office of the Secretary, Federal Communications Commission.

9. The Commission's contractor will receive hand-delivered or messenger-delivered paper filings for the Commission's Secretary at 236 Massachusetts Avenue NE., Suite 110, Washington, DC 20002. The filing hours at this location are 8 a.m. to 7 p.m. All hand deliveries must be held together with rubber bands or fasteners. Any envelopes must be disposed of before entering the building.

10. Commercial overnight mail (other than U.S. Postal Service Express Mail and Priority Mail) must be sent to 9300 East Hampton Drive, Capitol Heights, MD 20743.

11. U.S. Postal Service first-class, Express, and Priority mail should be addressed to 445 12th Street, SW., Washington, DC 20554.

12. All filings must be addressed to the Commission's Secretary, Marlene H. Dortch, Office of the Secretary, Federal Communications Commission, 445 12th Street, SW., Washington, DC 20554. Parties shall also serve one copy with the Commission's copy contractor, Best Copy and Printing, Inc. (BCPI), Portals II, 445 12th Street, SW., Room CY-B402, Washington, DC 20554, (202) 488-5300, or via e-mail to fcc@bcpiweb.com.

13. Availability of documents. The public may view the documents filed in this proceeding during regular business hours in the FCC Reference Information Center, Federal Communications Commission, 445 12th Street, SW., Room CY-A257, Washington, DC 20554, and on the Commission's Internet Home Page: http://www.fcc.gov. Copies of comments and reply comments are also available through the Commission's duplicating contractor: Best Copy and Printing, Inc. (BCPI), Portals II, 445 12th Street, SW., Room CY-B402, Washington, DC 20554, telephone 1-800-378-3160, may be reached by e-mail at fcc@bcpiweb.com or via BCPI's Web site at http://www.bcpiweb.com. To request materials in accessible formats for people with disabilities (braille, large print, electronic files, audio format), send an e-mail to fcc504@fcc.gov or call the Consumer & Governmental Affairs Bureau at 202-418-0530 (voice), 202-418-0432 (tty).

C. Paperwork Reduction Act

14. This document does not contain proposed information collection(s) subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

II. Initial Regulatory Flexibility Analysis

15. As required by the Regulatory Flexibility Act (RFA), the Commission has prepared this present Initial Regulatory Flexibility Analysis (IRFA) of the possible significant economic impact on small entities by the policies and rules proposed in the Third FNPRM. Written public comments are requested on this IRFA. Comments must be identified as responses to the IRFA and must be filed by the deadlines for comments on the Third FNPRM as provided in paragraph 82 of the item. The Commission will send a copy of the Third FNPRM, including this IRFA, to the Chief Counsel for Advocacy of the U.S. Small Business Administration. In addition, a copy of the Third FNPRM and IRFA (or summaries thereof) will also be published in the Federal Register.

Need for, and Objectives of, the Proposed Rules

16. In the Third FNPRM, we seek comment on rule amendments that are intended to enhance maritime safety, promote the efficient use of the maritime radio spectrum, and, to the extent consistent with these first two objectives, remove unnecessary regulatory burdens. We also seek to conform the Commission's part 80 rules with international standards where doing so will not undermine domestic regulatory objectives. In the Third FNPRM, we first request comment on whether we should remove part 80 regulatory provisions providing for the certification and authorizing the use of INMARSAT-E EPIRBs in light of the planned cessation of service to such EPIRBs as of December 1, 2006. Second, we invite comment on a Coast Guard recommendation to require that VHF DSC handheld radios include an integral GPS capability to ensure that distress calls include accurate location information. Third, we ask commenters to consider whether small passenger vessels that do not have a reserve power supply should be required to carry at least one VHF marine radio transceiver. Fourth, we request comment on whether additional frequencies should be made available for ship station facsimile use, and whether the Commission should permit the transmission of data on VHF maritime voice channels. Fifth, we request comment on whether we should remove certain restrictions on the assignment of frequencies to private coast stations and marine utility stations in light of the current demand for such frequencies. Sixth, we solicit comment on updating the standards for ship radar equipment. Finally, we request comment on the proposed addition of a rule to subpart W of part 80 to clarify the continued applicability of a daily radiotelephone testing requirement to GMDSS vessels subject to subpart W.

Legal Basis for Proposed Rules

17. The proposed action is authorized under sections 4(i), 303(r), and 332(a)(2) of the Communications Act of 1934, as amended, 47 U.S.C. 154(i), 303(r), and 332(a)(2).

Description and Estimate of the Number of Small Entities to Which the Proposed Rules Will Apply

18. The RFA directs agencies to provide a description of and, where feasible, an estimate of the number of small entities that may be affected by the proposed rules, if adopted. The RFA defines the term “small entity” as having the same meaning as the terms “small business,” “small organization,” and “small governmental jurisdiction.” In addition, the term “small business” has the same meaning as the term “small business concern” under the Small Business Act. A small business concern is one which (1) is independently owned and operated; (2) is not dominant in its field of operation; and (3) satisfies any additional criteria established by the Small Business Administration (SBA). A small organization is generally “any not-for-profit enterprise which is independently owned and operated and is not dominant in its field.” Nationwide, there are a total of approximately 22.4 million small businesses, according to SBA data. A “small organization” is generally “any not-for-profit enterprise which is independently owned and operated and is not dominant in its field.” Nationwide, as of 2002, there were approximately 1.6 million small organizations. The term “small governmental jurisdiction” is defined generally as “governments of cities, towns, townships, villages, school districts, or special districts, with a population of less than fifty thousand.” Census Bureau data for 2002 indicate that there were 87,525 local governmental jurisdictions in the United States. We estimate that, of this total, 84,377 entities were “small governmental jurisdictions.” Thus, we estimate that most governmental jurisdictions are small. Below, we further describe and estimate the number of small entity licensees and regulatees that may be affected by adoption of rules discussed in the Third FNPRM.

19. Small businesses in the aviation and marine radio services use a marine very high frequency (VHF), medium frequency (MF), or high frequency (HF) radio, any type of emergency position indicating radio beacon (EPIRB) and/or radar, an aircraft radio, and/or any type of emergency locator transmitter (ELT). The Commission has not developed a definition of small entities specifically applicable to these small businesses. For purposes of this IRFA, therefore, the applicable definition of small entity is the definition under the SBA rules applicable to wireless telecommunications. Pursuant to this definition, a “small entity” for purposes of the ship station licensees, public coast station licensees, or other marine radio users that may be affected by these rules, is any entity employing 1,500 of fewer persons. 13 CFR 121.201 (NAICS Code 517212).

20. Wireless Service Providers. The SBA has developed a small business size standard for wireless firms within the two broad economic census categories of “Paging” and “Cellular and Other Wireless Telecommunications.” Under both categories, the SBA deems a wireless business to be small if it has 1,500 or fewer employees. For the census category of Paging, Census Bureau data for 2002 show that there were 807 firms in this category that operated for the entire year. Of this total, 804 firms had employment of 999 or fewer employees, and three firms had employment of 1,000 employees or more. Thus, under this category and associated small business size standard, the majority of firms can be considered small. For the census category of Cellular and Other Wireless Telecommunications, Census Bureau data for 2002 show that there were 1,397 firms in this category that operated for the entire year. Of this total, 1,378 firms had employment of 999 or fewer employees, and 19 firms had employment of 1,000 employees or more. Thus, under this second category and size standard, the majority of firms can, again, be considered small.

21. VHF Public Coast Stations. Some of the rules proposed herein affect VHF public coast station licensees. The Commission has defined the term “small entity” specifically applicable to public coast station licensees as any entity employing less than 1,500 persons, based on the definition under the Small Business Administration rules applicable to radiotelephone service providers. See Amendment of the Commission's rules Concerning Maritime Communications, Third Report and Order and Memorandum Opinion and Order, 13 FCC Rcd 19853, 19893 (1998) (citing 13 CFR 121.201, Standard Industrial Classification (SIC) Code 4812, now NAICS Code 513322).

22. Marine Radio Equipment Manufacturers. Some of the rules proposed herein may also affect small businesses that manufacture marine radio equipment. The Commission has not developed a definition of small entities applicable to marine radio equipment manufacturers. Therefore, the applicable definition is that for Wireless Communications Equipment Manufacturers. The Census Bureau defines this category as follows: “This industry comprises establishments primarily engaged in manufacturing radio and television broadcast and wireless communications equipment. Examples of products made by these establishments are: Transmitting and receiving antennas, cable television equipment, GPS equipment, pagers, cellular phones, mobile communications equipment, and radio and television studio and broadcasting equipment.” The SBA has developed a small business size standard for Radio and Television Broadcasting and Wireless Communications Equipment Manufacturing, which is: all such firms having 750 or fewer employees. According to Census Bureau data for 2002, there were a total of 1,041 establishments in this category that operated for the entire year. Of this total, 1,010 had employment of under 500, and an additional 13 had employment of 500 to 999. Thus, under this size standard, the majority of firms can be considered small.

Description of Projected Reporting, Recordkeeping, and Other Compliance Requirements

23. We believe three of the possible rule changes discussed in the Third FNPRM may potentially have a direct, significant economic impact on a substantial number of small entities. As noted, we have requested comment on whether to require GPS capability in VHF-DSC handheld radios, on whether to require that small passenger vessels carry at least one VHF handheld marine radio transceiver, and on whether to update the standards for ship radar equipment. We invite interested parties to address the economic impact of these possible rule changes on small vessel operators, small marine radio equipment manufacturers and other small businesses that may be subject to the new requirements. We seek information on whether the compliance costs may outweigh the safety benefits of these rule changes, and whether there are alternative means of securing the safety benefits of these requirements through means that are less burdensome to regulatees.

24. We do not believe any of the other matters discussed in the Third FNPRM would have a direct, significant economic impact on a substantial number of small entities. However, any commenters that disagree with that tentative conclusion are asked to explain the basis of that disagreement.

Steps Taken To Minimize Significant Economic Impact on Small Entities, and Significant Alternatives Considered

25. The RFA requires an agency to describe any significant alternatives that it has considered in reaching its proposed approach, which may include the following four alternatives, among others:

(1) The establishment of differing compliance or reporting requirements or timetables that take into account the resources available to small entities; (2) the clarification, consolidation, or simplification of compliance or reporting requirements under the rule for small entities; (3) the use of performance, rather than design standards; and (4) an exemption from coverage of the rule, or any part thereof, for small entities.

26. In the Third FNPRM, we ask that commenters provide information on the incremental cost to manufacturers and consumers if the Commission were to adopt a requirement for GPS capability in VHF-DSC handheld units. We describe here, and seek comment on, possible alternatives to imposing such a requirement that might minimize the economic impact on small entities. First, we ask commenters to consider whether it would be appropriate to exempt any class of small entities from such a requirement. Commenters advocating such an exemption should propose criteria for identifying entities that should be exempt, and should explain why they believe such an exemption represents a reasonable compromise between the goals of promoting maritime safety and minimizing compliance costs for small entities. In addition, if we do determine to impose a new requirement for GPS capability in VHF-DSC handheld radio equipment, we would consider whether we should continue to certify VHF-DSC equipment without such capability for a specified additional period of time, and/or whether we should adopt grandfathering protections to allow the continued sale and use of such non-GPS VHF-DSC handheld equipment for a specified period of time or indefinitely. Interested parties should address these alternatives. Finally, we seek comment on whether an alternative, less costly equipment requirement could adequately address the concern that distress communications include accurate coordinates for the vessel in distress.

27. In the Third FNPRM, we also seek comment on whether the Commission should require carriage of at least one VHF handheld marine radio transceiver on small passenger vessels that do not carry a reserve power supply. Our understanding is that such handheld radio equipment can be purchased for under fifty dollars at retail, making it a far less expensive proposition for small vessel owners and operators than would expanding the reserve power supply requirement to all small passenger vessels, regardless of size. Notwithstanding the relative inexpensiveness of VHF handheld marine radios, and the important safety benefits that would accrue from imposing such a carriage requirement, we request that interested parties address whether the costs of such a requirement would outweigh the safety benefits, and to suggest any alternatives, exemptions or phased-in implementation schedules that the Commission might adopt to reduce the compliance burden of such a requirement on small entities.

28. In the Third FNPRM, we also invite comment on revising the standards for ship radar equipment. We seek comment on the impact of such a revision on radar equipment manufacturers and on the owners and operators of vessels required to be fitted with radar equipment. Given that we contemplate amending our rules only to reflect the most up-to-date international standards for ship radar equipment, we question whether such an amendment would impose any new compliance burden on small entities, since they may already be required to, or have decided it is prudent to, manufacture and use equipment that conforms to those international standards. To the extent such an amendment would be deemed to create a new compliance burden, we ask interested parties whether and how that burden can be eliminated or mitigated for small entities, both small manufacturers and small owners and operators of vessels fitted with radar equipment. Commenters should consider the possibility of retaining the existing part 80 radar standards, incorporating by reference only some of the newer international radar standards, exempting certain entities from the requirement to comply with the newer international radar standards, and/or providing transition periods before compliance is required (so that, e.g., radar equipment can still be certified based on compliance with the current standards for a specified period of time) and grandfathering protection (to permit the continued manufacture, sale, importation, and use of radar equipment certified under the old standards, either for a specified period of years or indefinitely). Commenters are also invited to suggest alternatives other than those discussed here.

Federal Rules That May Duplicate, Overlap, or Conflict With the Proposed Rules

29. None.

III. Ordering Clauses

30. Pursuant to sections 4(i), 303(r), and 403 of the Communications Act of 1934, as amended, 47 U.S.C. 154(i), 303(r) and 403, this Third FNPRM is adopted.

31. Pursuant to the applicable procedures set forth in §§ 1.415 and 1.419 of the Commission's rules, 47 CFR 1.415, and 1.419, interested parties may file comments on this Third FNPRM on or before January 8, 2007 and reply comments on or before February 6, 2007.

32. The Commission's Consumer Information Bureau, Reference Information Center, shall send a copy of this Third FNPRM and also the IRFA, to the Chief Counsel for Advocacy of the Small Business Administration.

Federal Communications Commission.
Marlene H. Dortch,
Secretary.

[FR Doc. E6-18755 Filed 11-7-06; 8:45 am]

BILLING CODE 6712-01-P